NUCLEAR REGULATORY COMMISSION

10 CFR Part 50

[Docket No. PRM-50-69; NRC-2000-0019]

Westinghouse Electric Company LLC; Consideration of Petition in Rulemaking Process

AGENCY: Nuclear Regulatory Commission.

ACTION: Resolution of petition for rulemaking and closure of petition docket.

SUMMARY: The Nuclear Regulatory Commission (NRC) will consider the issues raised in a petition for rulemaking (PRM) submitted by Westinghouse Electric Company LLC (petitioner) in the NRC's rulemaking process. The petition was dated November 4, 1999, and was docketed as PRM-50-69. The petitioner requested that Table 1 in 10 CFR Part 50, Appendix G, be amended by removing requirements related to the metal temperature of the closure head flange and vessel flange regions. Specifically, the petitioner requested that footnotes (2) and (6) be removed from Table 1.

DATES: The docket for the petition for rulemaking PRM-50-69 is closed on January 28, 2009.

ADDRESSES: You can access publicly available documents related to this petition for rulemaking using the following methods:

Federal e-Rulemaking Portal: Further NRC action on the issues raised by this petition will be considered in the rulemaking activity directed at revising 10 CFR Part 50, Appendix G. This rulemaking activity is entitled, “Modifications to Pressure-Temperature Limits,” in NUREG-0936, “NRC Regulatory Agenda: Semiannual Report,” and is designated with rulemaking identification number RIN 3150-AG98. Information on this rulemaking activity can be monitored at the Federal rulemaking portal, http://www.regulations.gov, by searching on rulemaking docket ID NRC-2008-0582. The regulatory history regarding PRM-50-69, including the public comments received, can be found by searching on docket ID NRC-2000-0019. Address questions about NRC dockets to Carol Gallagher 301-415-5905; e-mail Carol.Gallagher@nrc.gov.

NRC's Public Document Room (PDR): The public may examine and have copied for a fee, publicly available documents at the NRC's PDR, Public File Area Room O1-F21, One White Flint North, 11555 Rockville Pike, Rockville, Maryland.

NRC's Agencywide Document Access and Management System (ADAMS): Publicly available documents created or received at the NRC are available electronically at the NRC's Electronic Reading Room at http://www.nrc.gov/NRC/reading-rm/adams.html. From this page, the public can gain entry into ADAMS, which provides text and image files of NRC's public documents. If you do not have access to ADAMS or if there are any problems in accessing the documents located in ADAMS, contact the NRC PDR Reference staff at 1-800-397-4209, 301-415-4737, or by e-mail at PDR.resource@nrc.gov.

FOR FURTHER INFORMATION CONTACT: Barry Miller, Mail Stop O-9E3, Office of Nuclear Reactor Regulation, United States Nuclear Regulatory Commission, Washington, DC 20555-0001; telephone (301) 415-4117, or e-mail Barry.Miller@nrc.gov.

SUPPLEMENTARY INFORMATION:

The Petition

The NRC received a petition for rulemaking (ADAMS Accession No. ML003683190) from Westinghouse Electric Company LLC (the petitioner) dated November 4, 1999, which was docketed as PRM-50-69. The petitioner requested that the NRC eliminate reactor vessel closure head flange temperature requirements in 10 CFR Part 50, Appendix G, Table 1, by removing footnotes (2) and (6). On February 8, 2000, the NRC published a notice of receipt for this petition in the Federal Register (65 FR 6044) and requested public comment. The public comment period ended on April 24, 2000. Thirteen comments were received, all in support of the petition. These comments can be found by following the instructions given in the ADDRESSES section of this notice.

Resolution of Petition

The NRC will consider the issues raised in PRM-50-69, including the underlying issues relevant to the petition, and the comments submitted on PRM-50-69, in the ongoing rulemaking activity to modify the pressure and temperature limits contained in 10 CFR Part 50, Appendix G. The NRC believes that the underlying technical considerations regarding the reactor vessel closure head flange temperature are sufficiently related to the ongoing rulemaking activity on 10 CFR Part 50, Appendix G, that the issues raised in PRM-50-69 should be considered in the rulemaking activity.

The NRC is continuing work to develop the technical basis for this rulemaking. The technical basis provided by the petitioner in WCAP-15315, “Reactor Vessel Closure Head/Vessel Flange Requirements Evaluation for Operating PWR and BWR Plants,” Revision 1, is being considered in the development of the technical basis for the 10 CFR Part 50, Appendix G rulemaking. Although the NRC will consider the issues raised in the petition, the petitioner's concerns may not be addressed exactly as the petitioner has requested. After the conclusion of the NRC's development of the technical basis for the 10 CFR Part 50, Appendix G rule, the NRC will determine whether to adopt the petitioner's requested rulemaking changes. During the rulemaking process, the NRC will solicit comments from the public and will consider all comments before issuing a final rule.

If the ongoing work to establish the technical basis for this rulemaking does not support the issuance of a proposed rule, the NRC will issue a supplemental Federal Register notice that addresses why the petitioner's requested rulemaking changes were not adopted by the NRC. With this resolution of the petition, the NRC closes the docket for PRM-50-69.

Dated at Rockville, Maryland, this 2nd day of January, 2009.
For the Nuclear Regulatory Commission.
Bruce S. Mallett,
Acting Executive Director for Operations.

[FR Doc. E9-1372 Filed 1-27-09; 8:45 am]

BILLING CODE 7590-01-P